INTERNATIONAL TRADE COMMISSION

[USITC SE-17-001]

Sunshine Act Meeting

AGENCY HOLDING THE MEETING: United States International Trade Commission.

TIME AND DATE: January 18, 2017 at 9:30 a.m.

PLACE: Room 101, 500 E Street SW., Washington, DC 20436, Telephone: (202) 205-2000.

STATUS: Open to the public.

MATTERS TO BE CONSIDERED:

1. Agendas for future meetings: None

2. Minutes

3. Ratification List

4. Vote in Inv. No. 731-TA-718 (Fourth Review)(Glycine from China). The Commission is currently scheduled to complete and file its determinations and views of the Commission by January 31, 2017.

5. Vote in Inv. Nos. 731-TA-825 and 826 (Third Review)(Polyester Staple Fiber from Korea and Taiwan). The Commission is currently scheduled to complete and file its determinations and views of the Commission by January 31, 2017.

6. Outstanding action jackets: None.

In accordance with Commission policy, subject matter listed above, not disposed of at the scheduled meeting, may be carried over to the agenda of the following meeting.

By order of the Commission.
Issued: January 4, 2017.
William R. Bishop,
Supervisory Hearings and Information Officer.

[FR Doc. 2017-00279 Filed 1-5-17; 4:15 pm]

BILLING CODE 7020-02-P